DEPARTMENT OF DEFENSE

Office of the Secretary

The Joint Staff; National Defense University Board of Visitors Meeting

AGENCY: Department of Defense.

ACTION: Notice of meeting.

SUMMARY: The President, National Defense University (NDU) has scheduled a meeting of the Board of Visitors (BOV).

DATES: The meeting will be held on April 25th and 26th 2002, from 11:00 to 17:00 on the 25th and continuing on the 26th from 08:30 to 11:30.

ADDRESSES: The meeting will be held in Room 155B, Okinawa Hall, building number, Joint Forces Staff College (JFSC), 7800 Hampton Boulevard, Norfolk, VA. 23511-1702.

FOR FURTHER INFORMATION CONTACT: NDU Deputy Chief of Staff, National Defense University, Fort Lesley J. McNair, Washington, DC 20319-6200. To reserve space, interested persons should contact the JFSC POC, Mr.Kenneth Fritz at (757) 443-6212.

SUPPLEMENTARY INFORMATION: The agenda will include present and future educational and research issues for the National Defense University and its components. The meeting is open to the public, but the limited space available for observers will be allocated on a first come, first served basis. POC: Michael Mann, BOV Executive Secretary, mannm@ndu.edu, (202) 685-3903.

Dated: April 3, 2002.
Patricia L. Toppings,
Alternate OSD Federal Register Liaison Officer, Department of Defense.

[FR Doc. 02-8587 Filed 4-9-02; 8:45 am]

BILLING CODE 5001-08-M